DEPARTMENT OF COMMERCE

Bureau of Industry and Security

Firearms Convention; Proposed Collection Comment Request

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before July 8, 2002.

ADDRESSES: Direct all written comments to Madeleine Clayton, DOC Paperwork Clearance Officer, (202) 482-3129, Department of Commerce, Room 6608, 14th and Constitution Avenue, NW, Washington, DC 20230.

FOR FURTHER INFORMATION CONTACT: Requests for additional information or copies of the information collection instrument(s) and instructions should be directed to Marna Hayes, BIS ICB Liaison, (202) 482-5211, Department of Commerce, Room 6622, 14th and Constitution Avenue, NW, Washington, DC 20230.

SUPPLEMENTARY INFORMATION:

I. Abstract

The OAS Model Regulations and the Firearms Convention require the government of importing States to issue an Import Certificate to the importer of firearms and the government of exporting States to issue licenses for the firearms.

This rule imposes two information collection requirements. The first requirement is the import certificate as support documentation for exports destined to Convention Signatories. The second requirement is the imposition of a licensing requirement for Firearms Convention items destined to Canada, a Convention Signatory. Previously, such items were exported to Canada without a license.

II. Method of Collection

Written notification and recordkeeping.

III. Data

OMB Number: 0694-0114.

Form Number: BXA-748P. Although the name of the agency has changed to the Bureau of Industry and Security (BIS), we will continue to use previous forms until the stock is depleted.

Type of Review: Regular submission for extension of a currently approved collection.

Affected Public: Individuals, businesses or other for-profit and not-for-profit institutions.

Estimated Number of Respondents: 833.

Estimated Time Per Response: 5 to 90 minutes per response.

Estimated Total Annual Burden Hours: 176.

Estimated Total Annual Cost: No capital expenditures are required.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology. Comments submitted in response to this notice will be summarized and/or included in the request for OMB approval of this information collection; they will also become a matter of public record.

Dated: May 6, 2002.
Madeleine Clayton,
Departmental Forms Clearance Officer, Office of Chief Information Officer.

[FR Doc. 02-11613 Filed 5-8-02; 8:45 am]

BILLING CODE 3510-33-P